DEPARTMENT OF TRANSPORTATION

Federal Aviation Administration

Notice of Intent To Rule on Request To Release Property at the Morgantown Municipal Airport, Morgantown, WV

AGENCY: Federal Aviation Administration (FAA), DOT.

ACTION: Notice of request to release airport property.

SUMMARY: The FAA proposes to rule and invite public comment on the land release at the Morgantown Municipal Airport, Morgantown, WV, under the provision 49 U.S.C. 47125(a).

DATES: Comments must be received on or before September 3, 2015.

ADDRESSES: Comments on this application may be mailed or delivered to the following address: Glen Kelly, Assistant City Manager, City of Morgantown, Sponsor for Morgantown Municipal Airport, 389 Spruce Street, Morgantown, WV, 304-291-7461, and at the FAA Beckley Airports Field Office: Matthew DiGiulian, Manager, Beckley Airports Field Office, 176 Airport Circle, Room 101, Beaver, WV 25813, (304) 252-6216.

FOR FURTHER INFORMATION CONTACT: Connie Boley-Lilly, Airports Program Specialist, Beckley Airports Field Office, location listed above.

The request to release airport property may be reviewed in person at this same location.

SUPPLEMENTARY INFORMATION: The FAA invites public comment on the request to release property at the Morgantown Municipal Airport under the provisions of Section 47125(a) of Title 49 U.S.C. On July 21, 2015, the FAA determined that the request to release property at the Morgantown Municipal Airport (MGW), WV, submitted by the City of Morgantown, Sponsor for the Morgantown Municipal Airport, met the procedural requirements.

The following is a brief overview of the request:

The Morgantown Municipal Airport is proposing the release of approximately 95.70 acres of fee simple release to permit the transfer of such Property to the Monongalia County Development Authority (“MCDA”). Thereafter, “MCDA” will construct, or cause the construction, and operate, or cause the operation, of a Business Park on the Property. The Property to which this request relates is not a viral part of, or necessary for, the Sponsor's operation and development of Morgantown Municipal Airport (MGW). Therefore, it has been determined by the Sponsor that the most productive use of the Property is commercial development subsequent to its transfer to the “MCDA”. The development of the Property demonstrates that significant private investment can occur at MGW and shall serve to establish quality standards for future investments. The release and transfer of this property will allow the Sponsor to develop the roadway and utilities which will benefit this property, the hangar site, and the landside development site. This release will enhance the development of private aviation and commercial development of the east side of the airport.

Issued in Beckley, West Virginia, on July 16, 2015.
Matthew P. DiGiulian,
Manager, Beckley Airport Field Office, Eastern Region.

Any person may inspect the request by appointment at the FAA office address listed above. Interested persons are invited to comment on the proposed lease. All comments will be considered by the FAA to the extent practicable.

Issued in Beaver, West Virginia, July 21, 2015.

Matthew DiGiulian,

Manager, Beckley Airports Field Office.

[FR Doc. 2015-18596 Filed 8-3-15; 8:45 am]

BILLING CODE 4910-13-P